DEPARTMENT OF COMMERCE

Foreign-Trade Zones Board

[B-65-2012]

Authorization of Production Activity, Foreign-Trade Subzone 107A, Winnebago Industries, Inc. (Polyurethane Coated Upholstery Fabric), Forest City and Charles City, IA

On July 24, 2012, Winnebago Industries, Inc., operator of Subzone 107A in Forest City and Charles City, Iowa, submitted a notification of proposed production activity to the Foreign-Trade Zones (FTZ) Board.

The notification was processed in accordance with the regulations of the FTZ Board (15 CFR part 400), including notice in the Federal Register inviting public comment (77 FR 50462-50463, 8-21-2012). The FTZ Board has determined that no further review of the activity is warranted at this time. The production activity described in the notification is authorized, subject to the FTZ Act and the Board's regulations, including Section 400.14.

Dated: December 7, 2012.
Andrew McGilvray,
Executive Secretary.

[FR Doc. 2012-30127 Filed 12-12-12; 8:45 am]

BILLING CODE P